NATIONAL CREDIT UNION ADMINISTRATION

Meeting; Sunshine Act

TIME AND DATE: 10 a.m., Thursday, January 24, 2008.

PLACE: Board Room, 7th Floor, Room 7047, 1775 Duke Street, Alexandria, VA 22314-3428.

STATUS: Open.

MATTERS TO BE CONSIDERED: 1. Advance Notice of Proposed Rulemaking: Parts 708a and 708b of NCUA's Rules and Regulations—Mergers, Conversion from Credit Union Charter, and Account Insurance Termination.

2. Interest Rate Ceiling Determination under Section 107(5) of the Federal Credit Union Act.

RECESS: 11 a.m.

TIME AND DATE: 11:15 a.m., Thursday, January 24, 2008.

PLACE: Board Room, 7th Floor, Room 7047, 1775 Duke Street, Alexandria, VA 22314-3428.

STATUS: Closed.

Matters To Be Considered:

1. One (1) Administrative Action under Sections 205, 207, and 208 of the Federal Credit Union Act. Closed pursuant to Exemptions (8), (9)(A)(ii), and (9)(B).

2. One (1) Administrative Action under Section 206 of the Federal Credit Union Act. Closed pursuant to Exemptions (6), (7), and (9)(B).

FOR FURTHER INFORMATION CONTACT: Mary Rupp, Secretary of the Board, Telephone: 703-518-6304.

Mary Rupp,
Secretary of the Board.

[FR Doc. 08-235 Filed 1-18-08; 10:48 am]

BILLING CODE 7535-01-M